DEPARTMENT OF HEALTH AND HUMAN SERVICES

Centers for Disease Control and Prevention

[30Day-54-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Importation and Transport of Etiologic Agents (42 CFR 71.54 and Part 72) (OMB Control No. 0920-0199)—Revision—Office of the Director (OD), Centers for Disease Control and Prevention (CDC). The importation of etiological agents, hosts, and vectors of human disease are regulated by 42 CFR 71.54 and requires that the importation of such materials must be accompanied by a permit issued by the CDC. To carry out this provision, CDC has developed two forms for application for permit. One form is used to apply for a permit to import or distribute after importation, etiologic agents. A second form is used to apply for a permit to import or distribute after import, live bats. The second form is a new form for this information collection.

Interstate transportation of etiologic agents are regulated by 42 CFR Part 72. This regulation establishes minimal packaging requirements for all viable micro-organisms, illustrates the appropriate shipping label, and provides reporting instructions regarding damaged packages and failure to receive a shipment.

This request is for the information collection requirements contained in 42 CFR 71.54, 72.3(e), 72.3(f), and 72.4 which relate to the importation and transportation of etiologic agents. Respondents include laboratory facilities such as those operated by government agencies, universities, research institutions, and commercial entities. The only cost to respondents is their time to complete the application for permit to import form and report problems with shipment of etiologic agents.

CFR section | Number of respondents | Number of responses per respondent | Avg. burden per response (in hrs.)
72.54 Application Permit for Etiologic Agents | 2,340 | 1 | 20/60
72.54 Application Permit for Live Bats | 60 | 1 | 20/60
72.3(e) Damaged Package | 50 | 1 | 6/60
72.3(f) Shipping Requirement | 200 | 10 | 12/60
72.4 Failure to Receive | 2 | 1 | 12/60

Dated: July 11, 2003.
Thomas A. Bartenfeld,
Acting Associate Director for Policy, Planning and Evaluation, Centers for Disease Control and Prevention.

[FR Doc. 03-18223 Filed 7-17-03; 8:45 am]

BILLING CODE 4163-18-P